DEPARTMENT OF AGRICULTURE

Animal and Plant Health Inspection Service

[Docket No. 98-054-2]

Environmental Impact Statement Regarding Importation of Unmanufactured Wood Articles From Mexico

AGENCY: Animal and Plant Health Inspection Service, USDA.

ACTION: Notice.

SUMMARY: On July 14, 2000, a notice of availability and request for comments was published in the Federal Register (65 FR 43748) for a draft environmental impact statement titled “Proposed Rule for the Importation of Unmanufactured Wood Articles From Mexico, With Consideration for Cumulative Impact of Methyl Bromide Use.” The draft environmental impact statement considered, among other things, the potential cumulative impact on the environment of methyl bromide use. In the time since the draft environmental impact statement was prepared, the U.S. Environmental Protection Agency has made available data on methyl bromide use through 1999. After review of the data and the draft environmental impact statement, we have determined that it is not necessary to supplement the draft environmental impact statement before a final environmental impact statement is issued. We expect the final environmental impact statement to incorporate APHIS' review of the data on methyl bromide consumption since the publication of the draft.

DATES: We will consider all comments that we receive on or before September 9, 2002.

ADDRESSES: You may submit comments by postal mail/commercial delivery or by e-mail. If you use postal mail/commercial delivery, please send four copies of your comment (an original and three copies) to: Docket No. 98-054-2, Regulatory Analysis and Development, PPD, APHIS, Station 3C71, 4700 River Road Unit 118, Riverdale, MD 20737-1238. Please state that your comment refers to Docket No. 98-054-2. If you use e-mail, address your comment to regulations@aphis.usda.gov. Your comment must be contained in the body of your message; do not send attached files. Please include your name and address in your message and “Docket No. 98-054-2” on the subject line.

You may read any comments that we receive on the environmental impact statement in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. David Bergsten, Biological Scientist, Environmental Services, PPD, APHIS, 4700 River Road Unit 149, Riverdale, MD 20737-1238; (301) 734-8565.

SUPPLEMENTARY INFORMATION:

Background

Methyl bromide is a broad spectrum pesticide used as a fumigant to control insect pests, nematodes, weeds, and pathogens. The production, consumption, and trade of methyl bromide are regulated under the 1987 Montreal Protocol on Substances that Deplete the Ozone Layer (the Montreal Protocol) and the Clean Air Act, as amended (42 U.S.C. 7401 et seq.).

The Montreal Protocol is an international treaty designed to reduce and eventually eliminate the emissions of man-made, ozone-depleting substances such as methyl bromide. The Montreal Protocol provides for a phaseout of methyl bromide production and consumption in developed countries, including the United States, by the year 2005 and in developing countries by the year 2015. However, the Montreal Protocol exempts quarantine and pre-shipment (QPS) uses of methyl bromide from these phaseout requirements. The Clean Air Act provides the basic framework to regulate air quality through air pollution control, and it has been amended to reflect changes in U.S. obligations under the Montreal Protocol.

On July 14, 2000, a notice of availability and request for comments was published in the Federal Register (65 FR 43748) for a draft environmental impact statement (EIS) titled “Proposed Rule for the Importation of Unmanufactured Wood Articles From Mexico, With Consideration for Cumulative Impact of Methyl Bromide Use.” The draft EIS considered the potential cumulative impact on the environment of methyl bromide use that could result if the proposed rule was adopted and discussed alternatives to the proposed rule, the environmental consequences of methyl bromide on the environment, and the potential cumulative impact of methyl bromide use associated with the proposed rule.

It has been nearly 2 years since the draft EIS was completed and made available for public comment. Since then, the U.S. Environmental Protection Agency (EPA) has posted on its website data on methyl bromide use through 1999.

The Council on Environmental Quality's regulations for implementing the National Environmental Policy Act (NEPA) provide, in part, that agencies shall prepare a supplement to a draft or final EIS if the agency makes substantial changes in the proposed action that are relevant to environmental concerns or if there are significant new circumstances or information relevant to environmental concerns and bearing on the proposed action or its impacts (see 40 CFR 1502.9(c)). We have reviewed the EPA's data on methyl bromide use and found no significant new circumstances or information relevant to environmental concerns about methyl bromide. Therefore, we have determined that it is not necessary to supplement the draft EIS before a final EIS is issued. Indeed, our review indicates that the draft EIS's assessment of methyl bromide use patterns, now more fully documented, was realistic. A discussion of developments follows.

The draft EIS relied upon reviews completed in 1998 by the United Nations Environment Programme (UNEP) of methyl bromide use data through 1996. The EPA provides information on methyl bromide use as it becomes available. The most recent data available from the EPA present methyl bromide use through 1999. However, the data provided by the EPA are more limited than the 1996 data presented in the UNEP report. The information presented in the EPA tables is derived from multiple sources and is not consistent in numerical presentation among all tables. The EPA tables, however, do provide a good snapshot of annual changes in methyl bromide use patterns through 1999. Furthermore, the EPA data basically confirm estimates contained in the draft EIS, which assumed that current figures for use (in 1999) are slightly higher than those reported for 1996. These data support the draft EIS's assessment of methyl bromide use patterns.

The United States, among other countries (see Article 5 of the Montreal Protocol), is subject to phaseout of methyl bromide by 2005, except for QPS uses and critical exemption uses. The United States and other Article 5 countries were required to reduce their non-QPS production of methyl bromide in 1999 by at least 25 percent from production levels in 1991, the base year for all calculations. Although the United States met its obligations, some other Article 5 countries exceeded their production allowances. The actual reduction in methyl bromide use since 1991 was about 23 percent overall for the Article 5 countries (39,918 metric tons in 1991 to 30,741 metric tons in 1999). This reduction appears to be substantially in keeping with the phaseout goals, but the 1991 data may be misleading. The most recent figures for non-QPS uses by Article 5 countries shows a 2 percent increase over 3 years (30,032 metric tons in 1996 to 30,741 metric tons in 1999).

It is anticipated that the methyl bromide production phaseout requirements will ultimately reduce methyl bromide use, but the current patterns suggest a lag between intent to reduce and full compliance with the provisions of the Montreal Protocol. By 2015, most non-QPS use will cease and QPS use should be reduced substantially as cost-effective alternatives are developed. It is less clear how the critical-use exemptions allowed under the Montreal Protocol will affect the overall use of methyl bromide in the future. While modest changes in cumulative methyl bromide use are likely to come in time, the draft EIS's predictions, confirmed in recent data, suggest that the overall trend toward reductions in use will continue.

There is no new or additional scientific information or data that require reassessment of cumulative methyl bromide use or the effects of such use on the quality of the human environment. Therefore, preparation of a supplemental draft EIS is not necessary at this time. We expect to issue a final EIS soon.

We welcome comments on our determination that it is not necessary to supplement the draft environmental impact statement before a final environmental impact statement is issued.

Done in Washington, DC, this 7th day of August 2002.
Peter Fernandez,
Acting Administrator, Animal and Plant Health Inspection Service.

[FR Doc. 02-20295 Filed 8-8-02; 8:45 am]

BILLING CODE 3410-34-U